SMALL BUSINESS ADMINISTRATION

Advisory Committee Charter Reestablishment

AGENCY: U.S. Small Business Administration (SBA).

ACTION: Notice of advisory committee charter reestablishment.

SUMMARY: Pursuant to sections 14(b) (1) and 9(c) of the Federal Advisory Act (Pub. L. 92-463) and consultation with the General Services Administration, the Small Business Administration has determined that the Audit and Financial Management Committee, the Council on Underserved Communities, and the Small Business Lending Advisory Council are in the public interest and essential to the conduct of agency business. Accordingly, the charters for these committees are reestablished for a two-year period, effective from the date they are filed with Congress.

DATES: Renewed through February 23, 2028.

FOR FURTHER INFORMATION CONTACT: Andrienne Johnson, Committee Management Officer (CMO), Office of the Administrator, (202) 205-6685 or FACA@sba.gov.

SUPPLEMENTARY INFORMATION:

Audit and Financial Management Advisory Board

The Audit and Financial Management Advisory Committee provide independent advice and recommendations to the Small Business Administration on matters concerning financial management, including financial reporting, internal controls, audit processes, and compliance with applicable laws and government-wide standards. The SBA has determined that continuation of this Committee is in the public interest, as it provides structured, recurring advice from external financial management and audit experts that cannot be effectively obtained through internal staff resources or ad hoc consultations. The Committee's advice strengthens fiscal stewardship, audit readiness, and statutory compliance. Membership will be fairly balanced in terms of viewpoints and expertise within the financial management community and will be appointed in accordance with applicable statutory and regulatory requirements.

Council on Underserved Communities

The Council on Underserved Communities provides advice and recommendations to the Small Business Administration on programs, policies, and services affecting small businesses in historically underserved and underrepresented communities. The SBA has determined that continuation of this Council is in the public interest, as it supports Administration priorities to expand equitable access to economic opportunity and promotes inclusive economic growth. The Council provides structured, collective, and recurring advice informed by stakeholder experience that cannot be effectively performed through internal staff work or informal consultations. Membership will be fairly balanced in terms of viewpoints and expertise relevant to underserved business communities and appointed in accordance with applicable statutory and regulatory requirements.

Small Business Lending Advisory Council

The Small Business Lending Advisory Council provides advice, insights, and recommendations to the Small Business Administration on matters related to access to capital for small businesses, including lending policies, program effectiveness, and market conditions. The SBA has determined that continuation of this Council is in the public interest, as access to capital is central to small business growth and economic development. The Council provides structured, recurring advice from a broad cross-section of the small business lending community that cannot be replicated through internal analysis or ad hoc outreach. Membership will be fairly balanced in terms of viewpoints and expertise across the lending ecosystem and appointed in accordance with applicable statutory and regulatory requirements.

(Authority: 5 U.S.C. 10.)

Dated: February 10, 2026.
Andrienne Johnson,
Committee Management Officer.

[FR Doc. 2026-02829 Filed 2-11-26; 8:45 am]

BILLING CODE 8026-09-P